DEPARTMENT OF COMMERCE

Foreign-Trade Zones Board

[Order No. 1454]

Designation of New Grantee For Foreign-Trade Zone 174, Tucson, Arizona, Resolution And Order

Pursuant to its authority under the Foreign-Trade Zones Act of June 18, 1934, as amended (19 U.S.C. 81a-81u), and the Foreign-Trade Zones Board Regulations (15 CFR Part 400), the Foreign-Trade Zones Board (the Board) adopts the following Order:

The Foreign-Trade Zones (FTZ) Board (the Board) has considered the application (filed 9/23/2005) submitted by the City of Tucson, grantee of FTZ 174, Tucson, Arizona, requesting reissuance of the grant of authority for said zone to the Tucson Regional Economic Opportunities, Inc., a non-profit corporation, which has accepted such reissuance subject to approval by the FTZ Board. Upon review, the Board finds that the requirements of the FTZ Act and the Board's regulations are satisfied, and that the proposal is in the public interest, approves the request and recognizes the Tucson Regional Economic Opportunities, Inc. as the new grantee of Foreign-Trade Zone 174.

The approval is subject to the FTZ Act and the FTZ Board's regulations, including Section 400.28.

Signed at Washington, DC, this 31st day of May 2006.

David M. Spooner,
Assistant Secretary of Commerce for Import Administration.
Alternate Chairman Foreign-Trade Zones Board.
Attest:
Dennis Puccinelli,
Executive Secretary.

[FR Doc. E6-9307 Filed 6-13-06; 8:45 am]

BILLING CODE 3510-DS-S